DEPARTMENT OF THE INTERIOR

National Park Service

[N6460; NPS-WASO-NAGPRA-NPS0040881; PPWOCRADN0-PCU00RP14.R50000]

Notice of Intended Disposition: U.S. Department of the Air Force, Vandenberg Space Force Base, Santa Barbara County, CA

AGENCY: National Park Service, Interior.

ACTION: Notice.

SUMMARY: In accordance with the Native American Graves Protection and Repatriation Act (NAGPRA), the U.S. Department of the Air Force (DAF), Vandenberg Space Force Base (SFB) intends to carry out the disposition of human remains and associated funerary objects removed from Federal land to the Santa Ynez Band of Chumash Mission Indians of the Santa Ynez Reservation, California (SYBCI) who has priority for disposition in this notice.

DATES: Disposition of the human remains and associated funerary objects in this notice may occur on or after September 22, 2025. If no claim for disposition is received by August 24, 2026, the human remains and associated funerary objects in this notice will become unclaimed human remains and associated funerary objects.

ADDRESSES: Send written claims for disposition of the human remains and associated funerary objects in this notice to Josh Smallwood, Vandenberg Space Force Base Cultural Resources, Installation Tribal Liaison Officer/Cultural Resources Manager, SLD 30 CES/CEIEA, 1028 Iceland Avenue, Building 11146, Vandenberg Space Force Base, CA 93437-6010 email stacy.smallwood.1@spaceforce.mil.

SUPPLEMENTARY INFORMATION: This notice is published as part of the National Park Service's administrative responsibilities under NAGPRA. The determinations in this notice are the sole responsibility of the DAF, and additional information on the cultural items in this notice, including the results of consultation, can be found in the related records. The National Park Service is not responsible for the identifications in this notice.

Abstract of Information Available

On January 20, 2023, the DAF, in cooperation with Union Pacific Railroad (UPRR), conducted emergency data recovery excavations at archaeological site CA-SBA-530 in response to the presidentially declared severe winter storm disaster in Santa Barbara County which undermined the footings of the UPRR's Honda Trestle. Excavations were conducted pursuant to the provisions for emergency situations at 36 CFR 800.12(b)(2). In consultation with the federally recognized SYBCI, the entire artifact collection recovered during excavations will be repatriated due to the presence of humans remains in all three units of the L-shaped block excavation. In addition to those items, the collection includes shell beads, lithic and ground stone tools, and faunal remains that, based on traditional knowledge, could reasonably be considered associated funerary items under NAGPRA.

Based on the information available, human remains representing at least one individual has been reasonably identified. A total of 5,098 associated funerary objects were identified in the three excavation units which had human remains, including flaked and ground stone tools, debitage, shell beads and ornaments, ground and polished stone, and faunal remains. No unassociated funerary objects, objects of cultural patrimony, or sacred objects are present.

Determinations

The DAF has determined that:

• The human remains described in this notice represent the physical remains of at least one individual of Native American ancestry.

• The 5,098 objects described in this notice are reasonably believed to have been placed intentionally with or near individual human remains at the time of death or later as part of the death rite or ceremony.

• The Santa Ynez Band of Chumash Mission Indians of the Santa Ynez Reservation, California has priority for disposition of the human remains and associated funerary objects described in this notice.

Claims for Disposition

Written claims for disposition of the human remains and associated funerary objects in this notice must be sent to the appropriate official identified in this notice under ADDRESSES. If no claim for disposition is received by August 24, 2026, the human remains and associated funerary objects in this notice will become unclaimed human remains and associated funerary objects. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains and associated funerary objects in this notice may occur on or after September 22, 2025. If competing claims for disposition are received, the DAF Vandenberg SFB must determine the most appropriate claimant prior to disposition. Requests for joint disposition of the human remains and associated funerary objects are considered a single request and not competing requests. The DAF Vandenberg SFB is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: August 13, 2025.
Melanie O'Brien,
Manager, National NAGPRA Program.

[FR Doc. 2025-16118 Filed 8-21-25; 8:45 am]

BILLING CODE 4312-52-P